DEPARTMENT OF ENERGY

Federal Energy Regulatory Commission

[Docket No. RP03-268-000]

Florida Gas Transmission Company; Notice of Proposed Changes in FERC Gas Tariff

March 5, 2003.

Take notice that on February 28, 2003, Florida Gas Transmission Company (FGT) tendered for filing to become part of its FERC Gas Tariff, Third Revised Volume No. 1 (Tariff) effective April 1, 2003, the following tariff sheets:

Fifty-Eighth Revised Sheet No. 8A

Fiftieth Revised Sheet No. 8A.01

Fiftieth Revised Sheet No. 8A.02

Eighth Revised Sheet No. 8A.04

Fifty-Third Revised Sheet No. 8B

Forty-Sixth Revised Sheet No. 8B.01

Third Revised Sheet No. 8B.02

FGT states that the tariff sheets listed above are being filed pursuant to section 27 of the General Terms and Conditions (“GTC”) of FGT's Tariff which provides for the recovery by FGT of gas used in the operation of its system and gas lost from the system or otherwise unaccounted for.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5810 Filed 3-11-03; 8:45 am]

BILLING CODE 6717-01-P